DEPARTMENT OF AGRICULTURE

Submission for OMB Review; Comment Request

October 17, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: Public Law 480, Title I Financing and Record Keeping.

OMB Control Number: 0551-0005.

Summary of Collection: Title I of the Agricultural Trade Development and Assistance Act of 1954, as amended, (Pub. L. 480, 83rd Congress, as amended) provides for U.S. government financing of sales of U.S. agricultural commodities to recipients (foreign countries or private entities). The Foreign Agricultural Service (FAS) is responsible for administering Public Law 480, Title I agreements. In accordance with the law, an agreement providing for long-term credit financing is first negotiated with the recipient through diplomatic channels. After an agreement has been signed, the recipient applies to FAS for authorization to purchase each commodity provided in the agreement. At least 75 percent of the gross tonnage of commodities purchased under Title I must be shipped on privately owned U.S. flag commercial vessels to the extent such vessels are available at fair and reasonable rates. If ocean transportation is required to a country where there is no U.S. flag vessel coverage, a foreign vessel will be used at its prevailing rate. The recipient must send the pertinent terms of all proposed ocean freight contracts, regardless of whether any portion of the ocean freight is financed by CCC, to FAS for review and approval before the vessel is contracted.

Need and Use of the Information: FAS will collect information to insure that (1) suppliers keep accurate records on Title 1 transactions; (2) suppliers permit access to authorized USDA representatives (such as auditors and investigators); and, (3) suppliers retain records for three years after final payment. FAS will review the information to ensure that there are no potential conflicts of interest. FAS also evaluate the sales price to ensure that it is within the prevailing range of export market prices. Without the information, FAS could not ensure program compliance.

Description of Respondents: Business or other for-profit.

Number of Respondents: 9.

Frequency of Responses: Recordkeeping; Reporting: On occasion.

Total Burden Hours: 11.

Foreign Agricultural Service

Title: CCC's Export Enhancement Program (EEP) and CCC's Dairy Export Incentive Program (DEIP).

OMB Control Number: 0551-0028.

Summary of Collection: The Foreign Agricultural Service (FAS) collects information from U.S. exporters in order to determine the exporters' eligibility for the Export Enhancement Program (EEP) and the Dairy Export Incentive Program (DEIP). Program applicants can fax information in or applicants may register over the Internet.

Need and Use of the Information: Information collected from U.S. Exporters is used by FAS to determine whether an exporter has the experience necessary to perform under the proposed agreements. Other information is collected to determine compliance during the period of the agreement and to ensure that compensation in the appropriate amount is made. Without the application and related information, FAS would be unable to properly qualify U.S. Exporters for EEP and DEIP.

Description of Respondents: Business or other for-profit.

Number of Respondents: 9.

Frequency Of Responses: Recordkeeping; Reporting: On occasion.

Total Burden Hours: 47.

Ruth Brown,
Departmental Information Collection Clearance Officer.

[FR Doc. E6-17573 Filed 10-19-06; 8:45 am]

BILLING CODE 3410-10-P